DEPARTMENT OF JUSTICE

Notice of Lodging of Proposed Amendment to a Consent Decree Under the Comprehensive Environmental Response, Compensation, and Liability Act

On January 24, 2022, the Department of Justice lodged a proposed amendment to the 1986 consent decree with the United States District Court for the District of Maine in the lawsuit entitled United States, et al. v. Inmont Corporation, et al., Civil Action No. 86-0029-B.

In that action, the United States sought, pursuant to the Comprehensive Environmental Response, Compensation, and Liability Act (“CERCLA”), 42 U.S.C. 9601, et seq., injunctive relief and recovery of response costs regarding the Winthrop Landfill Superfund Site in Winthrop, Maine (the “Site”). The matter was originally resolved in 1986 when the United States entered into a Consent Decree with four potentially responsible parties regarding the Site (the “1986 Consent Decree”). The 1986 Consent Decree required, among other things, that the settlers implement the remedial action selected by the U.S. Environmental Protection Agency (“EPA”) in a 1985 record of decision (“1985 ROD”) for the Site.

On September 5, 2019, EPA issued an amendment to the 1985 ROD, which, among other things, documented EPA's decision to conduct additional remedial work at Hoyt Brook, a part of the Site. The proposed amendment to the 1986 Consent Decree, which was lodged with the Court on January 24, 2022, modifies the 1986 Consent Decree to make it consistent with the amended ROD.

The publication of this notice opens a period for public comment on the proposed Amendment to the 1986 Consent Decree. Comments should be addressed to the Assistant Attorney General, Environment and Natural Resources Division, and should refer to United States, et al. v. Inmont Corporation, et al., Civil Action No. 86-0029-B, D.J. Ref. No. 90-11-2-130. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amended consent decree may be examined and downloaded at this Justice Department website: https://www.justice.gov/enrd/consent-decrees. We will provide a paper copy of the proposed amended consent decree upon written request and payment of reproduction costs. Please mail your request and payment to: Consent Decree Library, U.S. DOJ—ENRD, P.O. Box 7611, Washington, DC 20044-7611.

Please enclose a check or money order for $98.00 (25 cents per page reproduction cost) payable to the United States Treasury. For a copy of the Amended Consent Decree without its attachments, enclose a check or money order for $2.50.

Henry Friedman,
Assistant Section Chief, Environmental Enforcement Section, Environment and Natural Resources Division.

[FR Doc. 2022-01786 Filed 1-27-22; 8:45 am]

BILLING CODE 4410-15-P